ENVIRONMENTAL PROTECTION AGENCY

[FRL-7216-9]

Process for Designing a Watershed Initiative

AGENCY: Environmental Protection Agency (EPA).

ACTION: Notice and request for comments.

SUMMARY: This notice solicits comments and suggestions from stakeholders and other interested parties on the potential design of EPA's new Watershed Initiative. The Agency is specifically seeking ideas and possible approaches to the nomination and selection processes. On January 25, 2002, EPA announced a proposal to include $21 million in its fiscal year 2003 budget for the new Watershed Initiative. Pending appropriations for this purpose, EPA will call for nominations and select up to 20 watershed organizations to receive grants to support innovative watershed based approaches to preventing, reducing, and eliminating water pollution. The Initiative will also support local communities in their efforts to expand and improve existing protection measures with tools, training, and technical assistance, and provide for ten Federal liaison positions. The primary component of the Initiative will be in the form of a competitive grant program. In addition, throughout the upcoming months, EPA will be working cooperatively with the States, Tribes, local governments, and community groups to develop the proposed program.

DATES: Comments, identified by the document control number W-02-05 must be received no later than July 8, 2002.

ADDRESSES: Comments may be submitted by mail, electronically, or in person. Please follow the detailed instructions for each method as provided in section I of the SUPPLEMENTARY INFORMATION section of this notice.

FOR FURTHER INFORMATION CONTACT: Carol Peterson, Environmental Protection Agency, Office of Wetlands, Oceans, and Watersheds (4501T), 1200 Pennsylvania Ave. NW, Washington, DC 20460. Telephone: 202-566-1304; e-mail: peterson.carol@epa.gov.

SUPPLEMENTARY INFORMATION:

I. General Information

A. Does This Notice Apply to You?

You may be interested in this notice if you are involved in water quality, aquatic habitat, and sustainable land management issues at the Regional, State, Tribal, local, or community level. This notice is intended to solicit ideas and comments from an array of organizations and individuals across the country who have an interest in achieving clean and healthy watersheds. Interested individuals and organizations may include farmers, private landowners, commercial businesses, watershed and environmental interest groups, academicians, community leaders, county/city planners, commissioners, engineers, recreational water users, and members of the general public. This list is not intended to be exhaustive, nor is it intended to exclude entities that may be ineligible for Watershed grants, but rather provides a guide for readers. To determine whether you, your company or organization may be interested in responding to this notice, you should carefully examine its contents. If you have questions regarding the applicability of this action to a particular entity, consult the person listed in the FOR FURTHER INFORMATION CONTACT section.

B. How Can I Get Additional Information or Copies of Support Documents?

1. Electronically. You may obtain electronic copies of this document and various support documents from the EPA home page at the Federal Register http://www.epa.gov/fedrgstr/, or on EPA's watershed homepage at http://www.epa.gov/owow/watershed.

2. In person. The complete administrative record for this action has been established under docket number W-02-05 and includes supporting documentation as well as printed, paper versions of electronic comments. Copies of information in the record are available upon request. A reasonable fee may be charged for copying. The records are available for inspection and copying from 9 a.m. to 4 p.m., Monday through Friday, excluding legal holidays, at the Water Docket, EPA, East Tower Basement, 401 M Street, SW, Washington, DC. For access to docket materials, please call (202) 260-3027 to schedule an appointment.

C. How and To Whom Do I Submit Comments?

EPA invites you to provide your views on those items outlined in Section IV, Design of the Watershed Initiative, approaches it has not considered, the potential impacts of the various options (including possible unintended consequences), and any other information that you would like the Agency to consider. You may submit comments by mail, in person, or electronically:

1. By mail. Submit written comments on this notice to: Comment Clerk for the Watershed Initiative Competitive Grant program, Water Docket (W-02-05), Environmental Protection Agency, Ariel Rios Bldg. 1200 Pennsylvania Ave. NW, Washington, DC 20460. The Document Control Office telephone number is 202-260-3027. To ensure proper identification of your comments, include in the subject line the docket control number, together with the name, date and Federal Register citation of this notice.

2. In person. Deliver written comments to EPA's Water Docket located in Room EB-57 (East Tower Basement), 401 M Street, SW, Washington, DC 20460.

3. Electronically. Submit your comments electronically to: ow-docket@epa.gov. Electronic comments must be submitted as an ASCII or WordPerfect file avoiding the use of special characters and any form of encryption. Comments will also be accepted on disks in WordPerfect or ASCII file format sent or delivered to the addresses above. All comments and data in electronic form must be identified by the docket control number W-02-05. Electronic comments on this notice may also be filed online at many Federal Depository Libraries. No confidential business information should be sent via e-mail.

II. Authority

EPA expects to award these grants under the authority of section 104(b)(3) of the Clean Water Act (CWA) which authorizes grants to conduct and promote the coordination and acceleration of research, investigations, experiments, training, education, demonstrations, surveys, and studies relating to the causes, effect, extent, prevention, reduction, and elimination of water pollution. EPA is also considering awarding grants under the authority in the Clean Water Act for Wet Weather Watershed Pilot Projects (33 U.S.C. 1274) or National Estuary Program projects (33 U.S.C. 1330).

III. Background

A. Introduction

Americans depend on clean water to drink, manufacture their products, irrigate their crops, and support a healthy habitat for wildlife. Water resources also provide opportunities for recreation, such as fishing, boating and swimming. Wetlands afford protection from floods, filter pollutants, and are home to a wide diversity of plants and animals. Estuaries serve as both birthplace and nursery for many species of fish and shellfish. Today, a majority of watersheds have water quality problems such as habitat loss, nutrient enrichment, pathogens, toxic chemicals, and invasive species. These problems continue to impair watersheds nationwide and prohibit the attainment of State/Tribal water quality standards and other water quality goals. The problems are complex and vary from region to region. Governments working alone can not solve all of them.

State and Federal water protection programs along with volunteer and private sector efforts, have been successful in reversing or preventing damage to the nation's waters over the past 30 years. Nevertheless, nearly 40 percent of the nation's waters that have been assessed are still not considered safe for swimming and fishing, or are impaired in other ways. Further, many lakes, rivers, streams, wetlands, and estuaries have yet to be adequately assessed. The nation remains far from realizing the goals of the Clean Water Act.

B. The Watershed Approach

To address water resource problems more effectively, water resource managers at all levels have been adopting a more comprehensive approach—one that considers all threats to a watershed. A watershed can be large or small. It can encompass the entire Mississippi River basin or a small stream in western Georgia. The “watershed approach” addresses natural resource issues that cross geographic, jurisdictional and political boundaries. This approach recognizes needs for water supply, water quality, flood control, navigation, hydropower generation, fisheries, biodiversity, habitat preservation and recreation—and it recognizes that these needs often compete. It establishes local priorities in the context of national goals, coordinates public and private actions, encourages partnerships to affect change, and enlists the support and knowledge base of the public at the local level.

Effective solutions to restoring water quality across the country will typically require cooperative efforts. Over the years, many communities around the country have joined forces to protect their watersheds, often using innovative and novel approaches that are geared toward solving the problems that make sense for their locality. In recent years, governments, non-profit organizations, businesses, and citizens have employed watershed based approaches to refocus their efforts to protect and restore the nation's waters. These refocused efforts have brought positive results and attainment of State/Tribal water quality standards in some areas.

C. The Watershed Initiative

The Watershed Initiative, if approved by Congress, would build on the watershed approach, encouraging innovative approaches for attaining water quality standards and improving water resource protection and restoration. It would also further EPA's goal to meet the mandate of the Clean Water Act. The Initiative will focus on highly valued watershed resources such as those that support human health, wildlife diversity, ecosystem integrity, economic stability, recreational opportunity, and natural or cultural significance.

The Administration has requested an additional $21 million in EPA's 2003 budget to spearhead this effort. The investment will capitalize on lessons learned from current protection efforts and build upon proven successful approaches to protect valued watershed resources. The Initiative will have several kinds of assistance. One part would direct cooperative agreements and demonstration funds to up to 20 watersheds. The grants would range from $300,000 to $1,300,000, depending on the amount requested and the overall size and need of the project.

A smaller portion of the funds could be used to respond to the recommendations of last year's National Watershed Forum (http://www.epa.gov/owow/forum), by supporting the development of tools, training, data and information, and technical assistance that can be provided to all watershed activities across the country, including projects which are nominated for selection under this Initiative but are not selected. The Initiative will also establish ten Federal liaison positions in EPA's Regional Offices. These watershed liaisons will serve as a vital link between the Federal government and the groups funded under the Initiative. This liaison will work to support cooperation and communication among all affected stakeholders of the project.

This notice only focuses on the competitive grant component of the Watershed Initiative described in section IV below.

D. Eligibility

If EPA awards these grants under section 104(b)(3) of the Clean Water Act, the funds may be used to conduct and promote the coordination and acceleration of research, investigations, experiments, training, demonstrations, surveys, and studies relating to the causes, effect, extent, prevention, reduction, and elimination of water pollution. Eligible activities under Wet Weather Watershed Pilot Project grants include pilot projects relating to watershed management of wet weather discharges and storm water best management practices. If EPA awards Watershed Initiative grants under the authority for National Estuary Program grants (section 320 of the Clean Water Act), the funds may be used for the development and implementation of a comprehensive management plan that has been developed under section 320.

E. Tentative Schedule

EPA has begun the process of devising a strategy to implement the Initiative. Work is underway both within EPA and with outside parties to solicit ideas. Over the next few months, the Agency will consult with Congress, Governors, States, Tribes, local governments, and community groups to seek their help in developing the program.

Plans are to complete the design of the program this summer and to call for nominations of projects soon thereafter. The Agency wants to make its selections as soon as possible after the fiscal year 2003 appropriation act is enacted. Project selections could be made as early as December 2002 and implementation could be underway by next summer.

IV. Design of the Watershed Initiative—the Nomination and Selection Process

The Agency is interested in the public's views on several key aspects of the Initiative.

Who Is Eligible?

EPA will award grants through a competitive process. Under section 104(b)(3) of the CWA, the following entities are eligible to receive grants: State and Tribal water pollution control agencies, interstate or intertribal agencies, other public or non-profit private agencies, institutions, organizations, and individuals. Grants authorized under section 320 of the CWA (National Estuary Program Grants) may be awarded to State, interstate, and regional water pollution control agencies and entities, State coastal zone management agencies, interstate agencies, other public or nonprofit private agencies, institutions, organizations, and individuals. For-profit entities are not eligible for grants under either section 104(b)(3) or 320 of the CWA. There is no limitation on the types of entities eligible for Wet Weather Watershed Pilot Project grants. The Agency invites the public to address whether the Initiative should be limited to certain groups and why.

How Will a Watershed Be Selected?

The Agency is interested in the views of interested parties on the selection process. One option is for the Governors or Tribal Leaders to nominate watershed projects to EPA. Under this option candidates representing a watershed that is wholly within a State's or Tribe's boundaries submit their proposals to the Governor or Tribal Leader of that State or Tribe, who in turn, would formally nominate selected watersheds to the EPA Administrator. This process is used by the Agency's National Estuary Program (NEP). Nominations for NEP funding can only be made by a Governor or by the EPA Administrator, on her own initiative. The Governor /Tribal Leader could serve as a screening step to the selection process and nominate only those watersheds in its State/Tribal land that most merit Federal funding. If the Governors or Tribal Leaders make the nominations, should they be restricted to a limited number of nominations?

Other programs take somewhat different approaches. For instance, to receive funding under EPA's Brownfields Showcase Communities Program, nominations are solicited through a notice in the Federal Register and are accepted from any party but must be submitted in partnership with a government entity. Other government granting programs, such as the Large-scale Watershed Restoration Program (LWRP), and the Community-Based Restoration Program (CBRP), do not require a State role per se. Nominations for these programs are submitted directly to the U.S. Forest Service and the National Marine Fisheries Service, respectively.

What About Regional Watersheds That Include More Than One State or Tribe?

Some of the most significant management and environmental challenges the nation faces involve water bodies that straddle State and Tribal boundaries. If Governors and Tribal Leaders nominate watershed projects that are wholly within their jurisdiction as described above, should interstate or inter-tribal watershed projects go through a different nomination process? EPA could require that nominations for these trans-boundary watershed projects be screened by EPA's Regional Administrators or be submitted directly to the Administrator. In light of limited time to prepare nominations, and the increased difficulty of developing the proposal for multi-jurisdictional projects, would requiring Governor or Tribal Leader level nomination put these larger projects at a disadvantage?

What Should Be the Criteria for Selecting a Watershed?

EPA is requesting comment on the criteria it should use to select watershed projects for funding. Below is a list of criteria that are utilized in various other Federal programs. EPA would like comments on the appropriateness of each criterion to this Initiative, and which criteria (and/or others not on the list) should be used in the selection process.

1. Value of the Resource at Risk and Extent of Impairment or Threat. The cornerstone of the Watershed Initiative is to foster the protection, preservation, and restoration of the country's water bodies. To what degree should successful candidates demonstrate that the watershed provides a high value of services to human health, economic stability, ecosystem integrity, recreational opportunity, natural or cultural significance or any other important services? For water bodies which are impaired, how should the nature, extent, and severity of the impairment be weighed? Are there other aspects of resource value that should be considered, and if so, what are they?

2. Focus on Success. To what extent should selections be based on readiness to proceed and the likelihood of achieving positive environmental outcomes? EPA is considering giving preference to nominations that (1) demonstrate a knowledge of priority water resource problems, (2) have substantially completed planning for the project, and (3) are ready to begin. The reasoning behind this is that these types of projects would have the greatest likelihood of attaining tangible environmental results in the near, rather than distant, future.

EPA is considering establishing a requirement that nominations be supported by a clearly articulated set of success or progress measures and a description of how these measures would be tracked. The Agency is also considering criteria which would address the capability of nominees to manage the project. Should each project be required to have a coordinator and a developed infrastructure for carrying out the project? While a grant may be awarded to an individual watershed group, an institution, or to a consortium of groups, it seems likely that a project leader would be needed to oversee the plan and take fiscal and practical responsibility for implementing the project. For example, should candidates be required to submit a detailed business plan? Should there be a cost-share requirement to demonstrate a real commitment to the project? And if so, how much? Should applicants that commit to provide a larger share of the project's cost be given preference?

Finally, one additional aspect of this category of potential criteria is the ability to transfer the experience gained from a project selected for the Initiative to other watersheds across the country. The goal of this criterion would be to develop and document restoration models that can be applied nationally. For this criterion, EPA would consider whether the success of the particular project could be repeated in other impaired or threatened watersheds.

3. Innovation. To what extent does the project test novel or unique approaches, concepts, or techniques? A key objective of the Initiative is to foster innovative and novel approaches to achieving environmental results. The designated watersheds are expected to serve as models of the most creative, economically successful and ecologically sustainable approaches to restoration and protection. A wide array of progressive and forward-thinking actions, such as pollutant trading, third-party total maximum daily loads (TMDLs), National Pollutant Discharge Elimination System (NPDES) watershed permits under the Clean Water Act, enforcement programs, and demonstration projects could be advanced. The public is invited to comment on this criterion and how it should be applied in the selection process.

4. Broad Support. The most successful watershed communities have attained a local commitment, established stakeholder partnerships, and forged effective working relationships among State and local authorities. EPA is seeking comment on the extent to which partnerships should be demonstrated by the nominees for this Initiative. Should EPA have nominees submit letters of support, or affidavits, attesting to the establishment of partnerships and collaboration efforts? And, should one or more of the entities have a proven track record with respect to implementing environmental protection and restoration projects?

Another aspect to consider is what role, if any, should the Interagency Regional Coordination Teams play? These teams of representatives of Federal agencies that share common concerns about water quality are spread around the country to strengthen cross-agency communications and implementation activities. These regional teams were created to link the Federal government with on-the-ground water protection, restoration, and conservation efforts. As a result, they could be helpful in enhancing partnerships and leveraging resource possibilities.

5. Accountability. Performance expectations and attaining measurable results are a fundamental part of the Initiative. The progress of each watershed project must be measurable by scientifically sound ways that can also be understood and appreciated by the general public. Monitoring should be designed to show progress in the short term. Questions arising from this criterion are: should the nominee be required to provide a “Watershed Plan” as part of the nomination package and if so, what should be the key elements of that plan? What are the most appropriate measures of success for this Initiative? How could EPA and other affected stakeholders monitor the progress of each selected project and report on the results?

6. Integrated Application of EPA Programs. The Agency is also considering linking the goals of the Watershed Initiative with its programmatic goals and solicits comments on whether and how to apply such a criterion. For example, the Agency could give priority consideration to those watershed projects that incorporate an integrated approach to using regulatory and nonregulatory tools (e.g., water quality standards, source water protection, TMDLs, permits, financial incentives) to address a diversity of aquatic resources (e.g., rivers, streams, lakes, wetlands, riparian areas, and/or estuaries). A linkage could be applied to national goals as well. In this case, special consideration could be given to watershed projects with national prominence, such as the Gulf Hypoxia Action Plan or the Pacific Northwest Salmon Recovery Program. The Agency is specifically seeking comment on whether, and if so how, watersheds that include estuaries should be linked to the National Estuary Program.

Should the Criteria Be Weighted?

Once the nomination materials have been submitted, EPA must determine how it will make its selections. EPA must decide whether any particular criterion should be “checked off” if met, or given more weight in the selection process than the others. For example, those nominations addressing the aquatic resources of greatest ecological or human health value could be considered first, or be scored higher by being assigned more “points.” EPA is exploring these and other questions regarding how much information will be needed to select the best projects.

Should There Be a Minimum or Maximum Size Established for These Targeted Watersheds?

EPA is inclined to support a variety of watershed scales and geographic locations. The appropriate size and location of the watershed and/or project area may depend on the local circumstances, the level of impairment, and other factors. Funds may be awarded based on the scale of the project, the anticipated need, and the amount requested. While EPA is leaning toward not specifying the scale or location of the watershed, it invites additional thoughts and comments on this issue.

V. Request for Comments

This Federal Register notice is meant to solicit public participation in an initiative designed to encourage the building of partnerships in an effort to protect, preserve, and restore watersheds across the country. The goal of the Watershed Initiative is to provide funding and other types of assistance to communities with a broad spectrum of affected interests in attaining clean and healthy waterways. EPA invites constructive and insightful comments on the subject of this notice. The Agency is especially seeking the public's input and suggestions on the qualifying and selection criteria and other topics outlined in section IV. Commentors should feel free to deviate from the scope of this notice and provide comments on other possible innovative approaches to designing the Watershed Initiative.

Dated: May 16, 2002.
Diane C. Regas,
Acting Assistant Administrator for Water.

[FR Doc. 02-12968 Filed 5-22-02; 8:45 am]

BILLING CODE 6560-50-P